DEPARTMENT OF THE INTERIOR

Bureau of Reclamation

[RR01115000, 18XR0680A1, RX.R0336902.0019100]

Yakima River Basin Conservation Advisory Group Charter Renewal

AGENCY: Bureau of Reclamation, Interior.

ACTION: Notice of charter renewal.

SUMMARY: Following consultation with the General Services Administration, the Secretary of the Interior (Secretary) is renewing the charter for the Yakima River Basin Conservation Advisory Group (CAG). The purpose of the CAG is to provide recommendations to the Secretary and the State of Washington on the structure and implementation of the Yakima River Basin Water Conservation Program (Basin Conservation Program).

FOR FURTHER INFORMATION CONTACT: Gwendolyn Christensen, Manager, Yakima River Basin Water Enhancement Project, telephone (509) 575-5848, extension 203; gchristensen@usbr.gov.

SUPPLEMENTARY INFORMATION: The Basin Conservation Program is structured to provide economic incentives with cooperative Federal, State, and local funding to stimulate the identification and implementation of structural and nonstructural cost-effective water conservation measures in the Yakima River basin. Improvements in the efficiency of water delivery and use will result in improved streamflows for fish and wildlife and improve the reliability of water supplies for irrigation.

This notice is published in accordance with Section 9(a)(2) of the Federal Advisory Committee Act of 1972 (Pub. L. 92-463, as amended). The certification of renewal is published below.

Certification

I hereby certify that Charter renewal of the Yakima River Basin Conservation Advisory Group is in the public interest in connection with the performance of duties imposed on the Department of the Interior.

Ryan K. Zinke,
Secretary of the Interior.

[FR Doc. 2018-06334 Filed 3-28-18; 8:45 am]

BILLING CODE 4332-90-P